DEPARTMENT OF THE INTERIOR

U.S. Geological Survey

[USGS-GX11AA0000A1300]

Announcement of the U.S. Geological Survey Science Strategy Planning Feedback Process

AGENCY: U.S. Geological Survey, Interior.

ACTION: Notice of Feedback Process.

SUMMARY: The U.S. Geological Survey is creating 10-year strategies for each of its Mission Areas: Climate and Land Use Change, Core Science Systems, Ecosystems, Energy and Minerals, Environmental Health, Natural Hazards, and Water. This process involves gathering input from the public on draft strategy documents. Feedback can be offered at http://www.usgs.gov/start_with_science.

DATES: The comment period on questions and drafts closes at midnight on August 1, 2012.

FOR FURTHER INFORMATION CONTACT: Listed below are contacts for each USGS Mission Area:

• Global Change

Virginia Burkett: 318-256-5628, virginia_burkett@usgs.gov.

Dave Kirtland: 703-648-4712, dakirtland@usgs.gov.

• Core Science Systems

Sky Bristol: 303-202-4181, sbristol@usgs.gov.

Chip Euliss: 701-253-5564, ceuliss@usgs.gov.

• Ecosystems

Gary Brewer: 304-724-4507, gbrewer@usgs.gov.

Ken Williams: 703-648-4260, byron_ken_williams@usgs.gov.

• Energy and Minerals

Jon Kolak: 703-648-6972, jkolak@usgs.gov.

Rich Ferrero: 206-220-4574, rferrero@usgs.gov.

• Environmental Health

Herb Buxton: 609-771-3944, hbuxton@usgs.gov.

Patti Bright: 703-648-4238, pbright@usgs.gov.

• Natural Hazards

Lucy Jones: 626-583-7817, jones@usgs.gov.

Bob Holmes: 573-308-3581, bholmes@usgs.gov.

• Water

Eric Evenson: 609-771-3904, eevenson@usgs.gov.

Randy Orndorff: 703-648-4316, rorndorf@usgs.gov.

SUPPLEMENTARY INFORMATION: Feedback can be offered and additional information accessed at www.usgs.gov/start_with_science.

Dated: May 29, 2012.
Barbara Wainman,
USGS Associate Director for Communications and Publishing.

[FR Doc. 2012-13905 Filed 6-7-12; 8:45 am]

BILLING CODE 4311-AM-P